Memorandum of January 26, 2021

Condemning and Combating Racism, Xenophobia, and Intolerance Against Asian Americans and Pacific Islanders in the United States

Memorandum for the Heads of Executive Departments and Agencies

Advancing inclusion and belonging for people of all races, national origins, and ethnicities is critical to guaranteeing the safety and security of the American people. During the coronavirus disease 2019 (COVID-19) pandemic, inflammatory and xenophobic rhetoric has put Asian American and Pacific Islander (AAPI) persons, families, communities, and businesses at risk.

The Federal Government must recognize that it has played a role in furthering these xenophobic sentiments through the actions of political leaders, including references to the COVID-19 pandemic by the geographic location of its origin. Such statements have stoked unfounded fears and perpetuated stigma about Asian Americans and Pacific Islanders and have contributed to increasing rates of bullying, harassment, and hate crimes against AAPI persons. These actions defied the best practices and guidelines of public health officials and have caused significant harm to AAPI families and communities that must be addressed.

Despite these increasing acts of intolerance, Asian Americans and Pacific Islanders have made our Nation more secure during the COVID-19 pandemic and throughout our history. An estimated 2 million Asian Americans and Pacific Islanders have served on the front lines of this crisis as healthcare providers, as first responders, and in other essential roles. The Federal Government should combat racism, xenophobia, and intolerance against Asian Americans and Pacific Islanders and should work to ensure that all members of AAPI communities—no matter their background, the language they speak, or their religious beliefs—are treated with dignity and equity.

By the authority vested in me as President by the Constitution and the laws of the United States of America, it is hereby ordered as follows:

Section 1. Condemning Racism, Xenophobia, and Intolerance Against Asian Americans and Pacific Islanders. The Federal Government has a responsibility to prevent racism, xenophobia, and intolerance against everyone in America, including Asian Americans and Pacific Islanders. My Administration condemns and denounces acts of racism, xenophobia, and intolerance against AAPI communities.

Sec. 2. Combating Racism, Xenophobia, and Intolerance Against Asian Americans and Pacific Islanders. (a) The Secretary of Health and Human Services shall, in coordination with the COVID-19 Health Equity Task Force, consider issuing guidance describing best practices for advancing cultural competency, language access, and sensitivity towards Asian Americans and Pacific Islanders in the context of the Federal Government's COVID-19 response. In developing any such guidance, the Secretary should consider the best practices set forth by public health organizations and experts for mitigating racially discriminatory language in describing the COVID-19 pandemic.

(b) Executive departments and agencies (agencies) shall take all appropriate steps to ensure that official actions, documents, and statements, including those that pertain to the COVID-19 pandemic, do not exhibit or contribute to racism, xenophobia, and intolerance against Asian Americans and Pacific Islanders. Agencies may consult with public health experts, AAPI community leaders, or AAPI community-serving organizations, or may refer to any best practices issued pursuant to subsection (a) of this section, to ensure an understanding of the needs and challenges faced by AAPI communities.

(c) The Attorney General shall explore opportunities to support, consistent with applicable law, the efforts of State and local agencies, as well as AAPI communities and community-based organizations, to prevent discrimination, bullying, harassment, and hate crimes against AAPI individuals, and to expand collection of data and public reporting regarding hate incidents against such individuals.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) Independent agencies are strongly encouraged to comply with the provisions of this memorandum.

(d) This memorandum is not intended to, and does not, create any right or benefit, substantive or procedural, enforceable at law or in equity by any party against the United States, its departments, agencies, or entities, its officers, employees, or agents, or any other person.

(e) The Secretary of Health and Human Services is authorized and directed to publish this memorandum in the Federal Register.

THE WHITE HOUSE,

Washington, January 26, 2021

[FR Doc. 2021-02073

Filed 1-28-21; 8:45 am]

Billing code 4150-42-P